DEPARTMENT OF COMMERCE

National Oceanic and Atmospheric Administration

[I.D. 052400D]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific and Statistical, Spiny Lobster, Advisory Panel Selection (closed), Shrimp, Snapper Grouper, Personnel (closed) and Marine Reserves Committees. The Council will also hold joint meetings of its Mackerel and Golden Crab Advisory Panels and Committees. Public Hearings will be held for Golden Crab Amendment 3 and on the Dolphin Wahoo Fishery Management Plan (FMP). Notices of these hearings with times, locations, and subject matter are addressed in separate Federal Register notices. A public scoping meeting on the use of tailing permits in the spiny lobster fishery will be held to determine if these permits should remain in use in the fishery. Public comment periods will be held on proposed framework actions for mackerel and the need for an Interim Rule Request for Snapper Grouper Amendment 12. There will also be a Council Session.

DATES: The meetings will be held from June 12-16, 2000. See SUPPLEMENTARY INFORMATION for specific dates and times.

ADDRESSES: The meetings will be held at the Cheeca Lodge, Mile Marker 82, U.S. Highway 1, Islamorada, FL; telephone: (1-800) 327-2888 or (305) 664-4651.

Council address: South Atlantic Fishery Management Council, One Southpark Circle, Suite 306; Charleston, SC 29407-4699.

FOR FURTHER INFORMATION CONTACT: Kim Iverson, Public Information Officer; telephone: (843) 571-4366; fax: (843) 769-4520; email: kim.iverson@noaa.gov

SUPPLEMENTARY INFORMATION:

Meeting Dates

June 12, 2000, 8:30 a.m.-5:00 p.m.—Scientific and Statistical Committee Meeting;

The Scientific and Statistical Committee will review and comment on the: mackerel stock assessment report; social impact assessment and economic impact assessment guidelines; vessel capacity report; snapper grouper assessment; dolphin assessment draft dolphin/wahoo FMP; red drum stock assessment; snapper grouper assessment group report and draft position statement on the use of cultured fish for stock enhancement; Golden Crab Amendment 3; marine reserves public information document and scoping document; and bycatch reduction (BRD) protocol revisions.

June 13, 2000, 8:30 a.m.-12:00 Noon—Joint Mackerel Committee and Advisory Panel (AP);

The Mackerel Committee and AP will meet to review the Gulf king mackerel assessment; Scientific and Statistical Committee (SSC) comments; AP framework recommendations; hear a presentation on the king mackerel mercury issue; and develop Committee recommendations.

June 13, 2000, 1:30 p.m.-5:00 p.m.—Joint Golden Crab Committee and Advisory Panel;

The Golden Crab Committee and AP will meet to review public input on Amendment 3; review SSC comments; and develop AP and Committee recommendations on Amendment 3.

June 14, 2000, 8:30 a.m.-10:30 a.m.—Spiny Lobster Committee;

There will be a scoping meeting on the use of tailing permits in the spiny lobster fishery (8:30 a.m.) and the Committee will discuss the need and/or locations for additional scoping meetings.

June 14, 2000, 10:30 a.m.-12:00 noon—Advisory Panel Selection Committee (closed);

The AP Selection Committee will meet to review membership applications and develop recommendations.

June 14, 2000, 1:30 p.m.-3:30 p.m.—Shrimp Committee;

The Shrimp Committee will meet to review revised NMFS BRD Protocol and discuss a nighttime closure proposal.

June 14, 2000, 3:30 p.m.-5:30 p.m.—Snapper Grouper Committee;

The Snapper Grouper Committee will meet to review and discuss corporate permits and transfers; legal status of “individual” vs “corporation” permits; discuss other permit transfer issues; hear a report on harvest by powerheads; discuss the need for an Interim Rule for Snapper Grouper Amendment 12 and hear a presentation on overfishing definitions.

June 15, 2000, 8:30 a.m.-9:30 a.m.—Personnel Committee (closed);

The Personnel Committee will meet to discuss personnel issues.

June 15, 2000, 9:30 a.m.-12:00 noon Marine Reserves Committee;

The Marine Reserves Committee will meet to review the results of the informal meetings; review input received at the public scooping meetings; and review and develop committee recommendations on the Gray's Reef Memorandum of Understanding (MOU).

June 15, 2000, 1:30 p.m.-5:30 p.m.—Council Session;

From 1:30 p.m.-1:45 p.m., the Council will call the meeting to order, adopt the agenda and approve minutes from the March 2000 meeting.

From 1:45 p.m.-2:15 p.m., the Council will hear from the Mackerel Committee and take public comment on any proposed framework actions beginning at 1:45 p.m. The Council will also take framework action as appropriate.

From 2:15 p.m.-2:45 p.m., the Council will hear from the Golden Crab Committee and finalize and approve Amendment 3.

From 2:45 p.m.-3:00 p.m., the Council will hear a report from the Spiny Lobster Committee.

From 3:15 p.m.-3:45 p.m., the Council will hear from the Advisory Panel Selection Committee and appoint new advisory panel members (closed session).

From 3:45 p.m.-4:00 p.m., the Council will hear a report from the Personnel Committee (closed session).

From 4:00 p.m.-4:15 p.m., the Council will hear a report from the Shrimp Committee.

From 4:15 p.m.-4:45 p.m., the Council will hear from the Marine Reserves Committee and review and develop a position on the Gray's Reef MOU.

From 4:45 p.m.-5:30 p.m., the Council will hear a report from the Snapper Grouper Committee. The Council will take public comment on the need for an Interim Rule Request for Snapper Grouper Amendment 12 at 4:45 p.m.

June 16, 2000, 8:30 a.m.-12:30 p.m., Council Session;

The Council will hear a presentation from the US Coast Guard; a presentation on the South Carolina/NMFS Cooperative Law Enforcement Agreement; hear from the Dolphin Wahoo Committee regarding the status of public hearings and take actions relative to the draft FMP as necessary; hear an update on the Atlantic Coastal Cooperative Statistics Program (ACCSP); hear a presentation on the status of National policy on vessel monitoring systems; hear NMFS Status Reports on: 1999/2000 Mackerel Framework, Mackerel Amendment 12, Greater Amberjack trip limit resubmittal and Comprehensive Habitat Amendment final rule. The Council will also hear NMFS Status Reports on the landings for: Atlantic king mackerel, Gulf king mackerel (eastern zone), Atlantic Spanish mackerel, Snowy grouper and Golden tilefish, Wreckfish, Greater amberjack and South Atlantic Octocorals. The Council will hear agency and liaison reports and discuss other business and upcoming meetings.

Although non-emergency issues not contained in this agenda may come before this Council for discussion, those issues may not be the subject of formal Council action during this meeting. Council action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to the Council office (see ADDRESSES) by June 5, 2000.

Dated: May 24, 2000.
Richard W. Surdi,
Acting Director, Office of Sustainable Fisheries, National Marine Fisheries Service.

[FR Doc. 00-13571 Filed 5-30-00; 8:45 am]

BILLING CODE 3510-22-F